DEPARTMENT OF COMMERCE

International Trade Administration

A-533-809

Notice of Preliminary Results of Antidumping Duty Changed Circumstances Review; Certain Forged Stainless Steel Flanges From India

AGENCY: Import Administration, International Trade Administration, Department of Commerce.

SUMMARY: On January 4, 2006, the Department of Commerce (the Department) published a notice of initiation of changed circumstances review of the antidumping duty order on certain forged stainless steel flanges (flanges) from India to determine whether Hilton Metal Forging Ltd. (HMFL) is the successor-in-interest company to Hilton Forge. See Notice of Initiation of Antidumping Duty Changed Circumstances Review: Certain Forged Stainless Steel Flanges from India, 71 FR 327 (January 4, 2006). We have preliminarily determined that HMFL is the successor-in-interest to Hilton Forge for purposes of determining antidumping liability in this proceeding. Interested parties are invited to comment on these preliminary results.

EFFECTIVE DATE: March 9, 2006.

FOR FURTHER INFORMATION CONTACT: Fred Baker or Robert James, AD/CVD Operations, Office 7, Import Administration, International Trade Administration, U.S. Department of Commerce, 14th Street and Constitution Avenue, NW, Washington, DC 20230, telephone : (202) 482-2924 or (202) 482-0649, respectively.

SUPPLEMENTARY INFORMATION:

Background

On November 14, 2005, Hilton Forge requested that the Department conduct a changed circumstances review of the antidumping duty order on flanges from India pursuant to section 751(b) of the Tariff Act of 1930, as amended (the Tariff Act), and 19 CFR 351.216. HMFL claims to be the successor-in-interest to Hilton Forge, and, as such, claims to be entitled to receive the same antidumping treatment as Hilton Forge. On January 18, 2006, and February 3, 2006, at the request of the Department, HMFL submitted additional information and documentation pertaining to its changed circumstances request.

Scope of the Order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule (HTS). Although the HTS subheading is provided for convenience and customs purposes, the written description of the merchandise under review is dispositive.

Preliminary Results of Review

In antidumping duty changed circumstances reviews involving a successor-in-interest determination, the Department typically examines several factors including, but not limited to, changes in: (1) Management; (2) production facilities; (3) supplier relationships; and (4) customer base. See Brass Sheet and Strip from Canada: Notice of Final Results of Antidumping Administrative Review, 57 FR 20460, 20462 (May 13, 1992) and Certain Cut-to-Length Carbon Steel Plate from Romania: Initiation and Preliminary Results of Changed Circumstances Antidumping Duty Administrative Review, 70 FR 22847 (May 3, 2005) (Plate from Romania). While no single factor or combination of factors will necessarily be dispositive, the Department generally will consider the new company to be the successor to the predecessor company if the resulting operations are similar to those of the predecessor company. See, e.g., Industrial Phosphoric Acid from Israel: Final Results of Changed Circumstances Review, 59 FR 6944, 6945 (February 14, 1994), and Plate from Romania, 70 FR 22847. Thus, if the record evidence demonstrates that, with respect to the production and sale of the subject merchandise, the new company operates as the same business entity as the predecessor company, the Department may assign the new company the cash deposit rate of its predecessor. See, e.g., Fresh and Chilled Atlantic Salmon from Norway: Final Results of Changed Circumstances Antidumping Duty Administrative Review, 64 FR 9979, 9980 (March 1, 1999).

In its November 14, 2005, submission HMFL stated it is the successor company to Hilton Forge, the latter having converted itself from a partnership firm into a company limited by shares, and having changed its name to HMFL. Further, HMFL stated there is otherwise no difference between Hilton Forge and HMFL. The Department now has on the record various documents that support this claim, including: (1) A memorandum of association showing that the changeover to a company limited by shares and the name change were approved in a stockholders meeting of Hilton Forge on July 1, 2005; (2) A stock certificate showing the new name; (3) A list of partners and directors before and after the name change, showing that they are largely the same; (4) Documentation showing that the production facilities have been retitled into the name HMFL; (5) A list of suppliers and customers before and after the name change showing they are substantially the same; (6) Documentation demonstrating that HMFL maintains the same bank account as did Hilton Forge; (7) A certificate of importer and exporter codes for Hilton Forge and HMFL issued by the government of India showing that the codes are identical; (8) A certificate of incorporation issued by the government of India showing the new name.

In sum, HMFL has presented evidence to establish a prima facie case of its successorship status. Hilton Forge's name change to HMFL and its conversion from a limited partnership firm into a company limited by shares have not changed the operations of the company in a meaningful way. HMFL's management, production facilities, supplier relationships, and customer base are substantially unchanged from those of Hilton Forge. Therefore, the record evidence demonstrates that the new entity essentially operates in the same manner as the predecessor company. Consequently, we preliminarily determine that HMFL should be given the same antidumping duty treatment as Hilton Forge, i.e., a 0.89 percent antidumping duty cash deposit rate.

The cash deposit determination from this changed circumstances review will apply to all entries of the subject merchandise entered, or withdrawn from warehouse, for consumption on or after the date of publication of the final results of this changed circumstances review. See Granular Polytetrafluoroethylene Resin from Italy; Final Results of Antidumping Duty Changed Circumstances Review, 68 FR 25327 (May 12, 2003). This deposit rate shall remain in effect until publication of the final results of the next administrative review in which HMFL is reviewed.

Public Comment

Interested parties may submit case briefs or written comments no later than 30 days after the date of publication of this notice. Rebuttal briefs and rebuttals to written comments, limited to issues raised in the case briefs and comments, may be filed no later than five days after the time limit for filing the case briefs. See 19 CFR 351.309(d). Parties who submit arguments in these proceedings are requested to submit with their arguments: (1) a statement of the issue; (2) a brief summary of the argument; and (3) a table of authorities. Further, parties submitting written comments should provide the Department an additional copy of the public version of any such comments on diskette. Any interested party may request a hearing within 30 days of publication of this notice. See CFR 351.310(c). Any hearing, if requested, will be held no later than two days after the scheduled due date for submission of rebuttal briefs, or the first business day thereafter, unless the Department alters the date per 19 CFR 351.310(d).

Consistent with section 351.216(e) of the Department's regulations, we will issue the final results of this changed circumstances review no later than 270 days after the date on which this review was initiated.

The current requirements for cash deposits of estimated antidumping duties on all subject merchandise shall remain in effect unless and until they are modified pursuant to the final results of changed circumstances review.

We are issuing and publishing this notice in accordance with sections 751(b) and 777(i)(1) of the Tariff Act, and section 351.221(c)(3)(i) of the Department's regulations.

Dated: March 3, 2006.
David M. Spooner,
Assistant Secretary for Import Administration.

[FR Doc. E6-3366 Filed 3-8-06; 8:45 am]

BILLING CODE 3510-DS-S